DEPARTMENT OF HOMELAND SECURITY

National Protection and Programs Directorate (NPPD), Telecommunications Services Priority (TSP) System; Agency Information Collection Activities: Request for Continuation of an Already Existing Collection for OMB Review, Comment Request

AGENCY: DHS, NPPD, Telecommunications Services Priority (TSP) System.

ACTION: Notice; 30-day notice and request for comments.

SUMMARY: The Department of Homeland Security (DHS), has submitted the following information collection to the Office of Management and Budget (OMB) for review and clearance in accordance with the requirements of the Paperwork Reduction Act of 1995 (Pub. L. 104-13, 44 U.S.C. Chapter 35). The information collection was previously published in the Federal Register on April 11, 2007 at 72 FR 18263—18264 allowing for a 60-day public comment period. No comments were received on this existing information collection. The purpose of this notice is to allow an additional 30 days for public comments. The submission describes the nature of the information collection, the categories of respondents, the estimated burden (i.e., the time, effort and resources used by respondents to respond) and cost, and includes the actual data collection instruments DHS will use.

DATES: Comments are encouraged and will be accepted until July 16, 2007.

ADDRESSES: Interested persons are invited to submit written comments on the proposed information collection to the Office of Information and Regulatory Affairs, Office of Management Budget, Attention: Nathan Lesser, Desk Officer, Department of Homeland Security/NPPD and sent via electronic mail to oira_submission@omb.eop.gov or faxed to (202) 395-6974.

FOR FURTHER INFORMATION CONTACT: A copy of this ICR, with applicable supporting documentation, may be obtained by calling Nathan Lesser, Desk Officer, Department of Homeland Security Washington, DC 20528; and sent via electronic mail to oira_submission@omb.eop.gov or faxed to (202) 395-6974 (this is not a toll free number).

SUPPLEMENTARY INFORMATION: Title: Telecommunications Services Priority (TSP) System (Standard Forms 314, 315, 317, 318, 319).

OMB Number: 1670-0005.

Affected Public: Individuals or households; businesses or other for profit; not-for-profit institutions; State, local or tribal government; foreign government.

Number of Respondents: 37.

Estimated Time per Respondent:

SF314 (TSP Revalidations for Service Users): .05 Minutes.

SF315 (TSP Request for Service Users): 1.25 Hours.

SF317 (TSP Action Appeal for Service Users): 3.0 Hours.

SF318 (TSP Service Confirmation for Service Vendors): .05 Hours.

SF319 (TSP Service Reconciliation for Service Vendors): 8.0 Hours.

Estimated Total Annual Burden Hours: 2,762.

Frequency of Response: On Occasion.

The Telecommunications Service Priority (TSP) System provides telecommunications service vendors a means of identifying the services that should be restored or provisioned first in the event of an emergency or crisis; and the legal protection giving a preference to certain users over others. This critical aspect of the TSP program benefits government at all levels as well as the general public. The collection includes mechanisms to collect information to request a priority, to obtain a sponsor for requesting a priority, and for other administrative requirements of the program, is required from any person or organization having an NS/EP service for which they wish priority restoration from the vendor providing the service. Information is also required to allow immediate installation of a new service to support NS/EP requirements. Information is required from vendors to allow the OMNCS to track and identify the telecommunications services that are being provided priority treatment. This is a previously approved collection.

Charlie Church,
Chief Information Officer, National Protection and Programs Directorate, Department of Homeland Security.

[FR Doc. E7-11495 Filed 6-13-07; 8:45 am]

BILLING CODE 4410-10-P